FEDERAL MARITIME COMMISSION

[Docket No. 04-08]

Qin's, Incorporated v. Superior Link International, Inc.; Notice of Filing of Complaint and Assignment

Notice is given that a complaint has been filed by Qin's, Incorporated (“Complainant”) against Superior Link International, Inc. (“Respondent”). Complainant contends that Respondent has unreasonably refused to deal or negotiate the proper release of Complainant's two containers in violation of section 10(b)(10)¹ of the Shipping Act of 1984, 46 U.S.C. app. section 1709(b)(10). As a direct result of these allegations, Complainant claims that it has suffered substantial economic damages and injury valued at $23,626.40. Complainant seeks an order directing Respondent to pay reparations, court costs, attorneys fees, and any further relief as the Commission may determine to be warranted.

¹ Complainant cites section 10(b)(7) of the Shipping Act of 1984, 46 U.S.C. app. section 1709(b)(7), however, Complainant's narrative statement refers to a 10(b)(10) violation.

This proceeding has been assigned to the Office of Administrative Law Judges. A hearing in this matter, if any is held, shall commence within the time limitations prescribed in 46 CFR 502.61, and only after consideration has been given by the parties and the presiding officer to the use of alternative forms of dispute resolution. The hearing shall include oral testimony and cross-examination in the discretion of the presiding officer only upon showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by August 4, 2005 and a final decision of the Commission shall be issued by December 2, 2005.

Bryant L. VanBrakle,
Secretary.

[FR Doc. 04-18377 Filed 8-10-04; 8:45 am]

BILLING CODE 6730-01-P